OFFICE OF MANAGEMENT AND BUDGET

Notice; Delegation of Apportionment Authority Pursuant to 31 U.S.C. 1513(b)

AGENCY: Office of Management and Budget, Executive Office of the President.

ACTION: Notice.

SUMMARY: Pursuant to The Executive Office of the President Appropriations Act, 2022, the Office of Management and Budget is publishing its delegation of apportionment authority to respond to a continuity event.

DATES: This delegation became effective on April 18, 2025.

FOR FURTHER INFORMATION CONTACT: Heather V. Walsh at 202-395-3642 or MBX.OMB.OGC@omb.eop.gov.

SUPPLEMENTARY INFORMATION:

Delegation of Apportionment Authority To Respond to a Continuity Event

I hereby delegate to the following individuals, in order of succession, the authorities delegated by the President to the Director of the Office of Management and Budget for apportioning funds pursuant to 31 U.S.C. 1513 when the Program Associate Director (PAD) (to whom such apportionment authority was previously delegated by the Director of the Office of Management and Budget) with current apportionment authority for an account is not available to apportion or reapportion the account because of a continuity event:

1. Deputy Associate Director (DAD) responsible for the account

2. Branch Chief responsible for the account

3. Another Branch Chief from the same DAD area

4. Another DAD from the same PAD area

5. Another PAD

6. Another DAD from a different PAD area

7. Assistant Director for Budget

This delegation of authority will remain in place until revised or revoked, and it may not be re delegated by the individual to whom it has been delegated. The delegation does not limit the authority of the Director to exercise the delegated authority.

Russell T. Vought,
Director, Office of Management and Budget.

[FR Doc. 2025-06953 Filed 4-22-25; 8:45 am]

BILLING CODE 3110-01-P